DEPARTMENT OF THE INTERIOR

National Park Service

[2253-65]

Notice of Inventory Completion: Washington State Department of Natural Resources, Olympia, WA and University of Washington, Department of Anthropology, Seattle, WA; Correction

AGENCY: National Park Service, Interior.

ACTION: Notice; correction.

Notice is here given in accordance with the Native American Graves Protection and Repatriation Act (NAGPRA), 25 U.S.C. 3003, of the completion of an inventory of human remains in the control of the Washington State Department of Natural Resources, Olympia, WA, and in the physical custody of the University of Washington, Department of Anthropology, Seattle, WA. The human remains were removed from Huckleberry Island, Skagit County, WA.

This notice is published as part of the National Park Service's administrative responsibilities under NAGPRA, 25 U.S.C. 3003(d)(3). The determinations in this notice are the sole responsibility of the museum, institution, or Federal agency that has control of the Native American human remains. The National Park Service is not responsible for the determinations in this notice.

This notice corrects the controlling agency and adds two additional Indian tribes found to have a shared group relationship to a Notice of Inventory Completion published in the Federal Register (75 FR 14463, March 25, 2010). Since the time of publication, an additional two Indian tribes have been found to have a cultural affiliation with the Native American human remains. In addition, in the original Notice, the University of Washington, Department of Anthropology, had believed it was in control of the Native American human remains, however, the land was under the control of the Washington State Department of Natural Resources at the time of removal, and as such the Washington State Department of Natural Resources is in control of the Native American human remains. This Notice replaces the Notice of March 25, 2010, with the following:

A detailed assessment of the human remains was made by the University of Washington, Department of Anthropology, and Burke Museum staff in consultation with representatives of the Lummi Tribe of the Lummi Reservation, Washington; Samish Indian Tribe, Washington; and the Swinomish Indians of the Swinomish Reservation, Washington.

At an unknown date, human remains representing a minimum of one individual were removed from Huckleberry Island, Skagit County, WA. No known individual was identified. No associated funerary objects are present.

The human remains were determined to be consistent with Native American morphology, as evidenced through cranial deformation and presence of wormian bones.

Huckleberry Island is a small island located approximately ¼ mile southeast of Guemes Island, in Skagit County, WA. This area falls within the Central Coast Salish cultural group (Suttles 1990). Historical documentation indicates that the aboriginal Samish people traditionally occupied Guemes Island (Amoss 1978, Roberts 1975, Ruby and Brown 1986, Smith 1941, Suttles 1951, Swanton 1952) and Huckleberry Island (Barg 2008, unpublished report) both before and after contact. The Treaty of Point Elliot in 1855 stated that the Samish were to be relocated to the Lummi Reservation. After the Treaty of Point Elliot, many Samish individuals relocated to either the Lummi Reservation or the Swinomish Reservation (Ruby and Brown 1986:179). However, many Samish chose to remain in their old village sites. In 1996, the Samish Indian Tribe was re-recognized by the Federal Government.

Officials of the University of Washington, Department of Anthropology, have determined, pursuant to 25 U.S.C. 3001(9), that the human remains described above represent the physical remains of one individual of Native American ancestry. Lastly, officials of the Washington State Department of Natural Resources and the University of Washington, Department of Anthropology, have determined, pursuant to 25 U.S.C. 3001(2), that there is a relationship of shared group identity that can be reasonably traced between the Native American human remains and the Lummi Tribe of the Lummi Reservation, Washington; Samish Indian Tribe, Washington; and the Swinomish Indians of the Swinomish Reservation, Washington.

Representatives of any other Indian tribe that believes itself to be culturally affiliated with the human remains should contact Maurice Major, Cultural Resource Specialist, Washington State Department of Natural Resources; PO Box 47000, 1111 Washington St. SE., Olympia, WA 98504-7000, telephone (360) 902-1298, before March 18, 2011. Repatriation of the human remains to the Samish Indian Tribe, Washington, may proceed after that date if no additional claimants come forward.

The Washington State Department of Natural Resources is responsible for notifying the Lummi Tribe of the Lummi Reservation, Washington; Samish Indian Tribe, Washington; and the Swinomish Indians of the Swinomish Reservation, Washington, that this notice has been published.

Dated: February 11, 2011.
David Tarler,
Acting Manager, National NAGPRA Program.

[FR Doc. 2011-3522 Filed 2-15-11; 8:45 am]

BILLING CODE 4312-50-P